DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On October 10, 2019, OFAC determined that the property and interests in property subject to U.S. jurisdiction of the following persons are blocked under the relevant sanctions authority listed below.

Individuals

1. ESSA, Salim (a.k.a. ESSA, Salim Aziz), Johannesburg, South Africa; DOB 15 Jan 1978; nationality South Africa; Gender Male; Passport M00073786 (South Africa) issued 09 Nov 2012 expires 08 Nov 2022; National ID No. 7801155017084 (South Africa) (individual) [GLOMAG].

Designated pursuant to section 1(a)(iii)(A)(3) of Executive Order 13818 of December 20, 2017, “Blocking the Property of Persons Involved in Serious Human Rights Abuse or Corruption” (E.O. 13818) for having materially assisted, sponsored, or provided financial, material, or technological support for, or goods or services to or in support of, any entity, including any government entity, that has engaged in, or whose members have engaged in, corruption, including the misappropriation of state assets, the expropriation of private assets for personal gain, corruption related to government contracts or the extraction of natural resources, or bribery.

2. GUPTA, Atul (a.k.a. GUPTA, Atul Kumar), Dubai, United Arab Emirates; DOB 14 Jun 1968; POB Saharanpur, India; nationality South Africa; Gender Male (individual) [GLOMAG].

Designated pursuant to section 1(a)(iii)(A)(3) of E.O. 13818 for having materially assisted, sponsored, or provided financial, material, or technological support for, or goods or services to or in support of, any entity, including any government entity, that has engaged in, or whose members have engaged in, corruption, including the misappropriation of state assets, the expropriation of private assets for personal gain, corruption related to government contracts or the extraction of natural resources, or bribery.

3. GUPTA, Ajay (a.k.a. GUPTA, Ajay Kumar), Dubai, United Arab Emirates; DOB 05 Feb 1966; POB Saharanpur, India; nationality India; Gender Male (individual) [GLOMAG].

Designated pursuant to section 1(a)(ii)(C)(1) of E.O. 13818 for being a foreign person who is or has been a leader or official of an entity, including any government entity, that has engaged in, or whose members have engaged in, corruption, including the misappropriation of state assets, the expropriation of private assets for personal gain, corruption related to government contracts or the extraction of natural resources, or bribery.

4. GUPTA, Rajesh (a.k.a. GUPTA, Rajesh Kumar; a.k.a. “GUPTA, Tony”), Dubai, United Arab Emirates; DOB 05 Aug 1972; POB Saharanpur, India; nationality South Africa; Gender Male; National ID No. 7208056345087 (South Africa) (individual) [GLOMAG].

Designated pursuant to section 1(a)(iii)(A)(3) of E.O. 13818 for having materially assisted, sponsored, or provided financial, material, or technological support for, or goods or services to or in support of, any entity, including any government entity, that has engaged in, or whose members have engaged in, corruption, including the misappropriation of state assets, the expropriation of private assets for personal gain, corruption related to government contracts or the extraction of natural resources, or bribery.

Dated: October 10, 2019.
Andrea Gacki,
Director, Office of Foreign Assets Control.

[FR Doc. 2019-23785 Filed 10-30-19; 8:45 am]

BILLING CODE 4810-AL-P